FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 16, 2014.

A. Federal Reserve Bank of Richmond (Adam M. Drimer, Assistant Vice President) 701 East Byrd Street, Richmond, Virginia 23261-4528:

1. GCP III EVB LLC, a limited liability company; Greenhill Capital Partners III, L.P., a limited partnership; Greenhill Capital Partners (Cayman Islands) III, L.P., a limited partnership; Greenhill Capital Partners (GHL) III, L.P., a limited partnership; Greenhill Capital Partners (Employees) III, L.P., a limited partnership; GCP Managing Partner III, L.P., a limited partnership; GCP Managing Partner III GP, L.P., a limited partnership; GCP Capital Partners Holdings LLC, a limited partnership; GCP Capital Partners Holdings Inc., a corporation; GCP Capital Partners LLC, a limited partnership; Robert H. Niehaus, all of New York, New York, and Boris Gutin, Montclair, New Jersey; to acquire voting shares of Eastern Virginia Bankshares, Inc., and thereby indirectly acquire voting shares of EVB, both in Tappahannock, Virginia.

Board of Governors of the Federal Reserve System, November 26, 2014.
Michael J. Lewandowski,
Associate Secretary of the Board.

[FR Doc. 2014-28356 Filed 12-1-14; 8:45 am]

BILLING CODE 6210-01-P